FEDERAL RESERVE SYSTEM

Formations of, Acquisitions by, and Mergers of Bank Holding Companies; Correction

This notice corrects a notice (FR Doc. 00-4058) published on pages 8709 and 8710 of the issue for February 22, 2000.

Under the Federal Reserve Bank of San Francisco heading, the entry for AMB Financial Services Corporation, Bainbridge Island, Washington, is revised to read as follows:

A. Federal Reserve Bank of San Francisco (Maria Villanueva, Consumer Regulation Group) 101 Market Street, San Francisco, California 94105-1579:

1. American Marine Bank ESOP, Bainbridge Island, Washington, and AMB Financial Services Corporation, Bainbridge Island, Washington, to acquire 100 percent of the voting shares of Silverdale State Bank, Silverdale, Washington.

Comments on this application must be received by March 17, 2000.

Board of Governors of the Federal Reserve System, February 22, 2000.
Robert deV. Frierson,
Associate Secretary of the Board.

[FR Doc. 00-4547 Filed 2-25-00; 8:45 am]

BILLING CODE 6210-01-P